SECURITIES AND EXCHANGE COMMISSION

[File No. 500-1]

In the Matter of Tweeter Home Entertainment Group, Inc. (a/k/a TWTR, Inc.), Ultitek, Ltd., Utix Group, Inc., Velocity Express Corporation, and Vyteris, Inc.; Order of Suspension of Trading

February 20, 2014.

It appears to the Securities and Exchange Commission that there is a lack of current and accurate information concerning the securities of Tweeter Home Entertainment Group, Inc. (a/k/a TWTR, Inc.) because it has not filed any periodic reports since the period ended March 31, 2007.

It appears to the Securities and Exchange Commission that there is a lack of current and accurate information concerning the securities of Ultitek, Ltd. because it has not filed any periodic reports since the period ended September 30, 2008.

It appears to the Securities and Exchange Commission that there is a lack of current and accurate information concerning the securities of Utix Group, Inc. because it has not filed any periodic reports since the period ended September 30, 2007.

It appears to the Securities and Exchange Commission that there is a lack of current and accurate information concerning the securities of Velocity Express Corporation because it has not filed any periodic reports since the period ended March 28, 2009.

It appears to the Securities and Exchange Commission that there is a lack of current and accurate information concerning the securities of Vyteris, Inc. because it has not filed any periodic reports since the period ended March 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 20, 2014, through 11:59 p.m. EST on March 5, 2014.

By the Commission.
Jill M. Peterson,
Assistant Secretary.

[FR Doc. 2014-03992 Filed 2-20-14; 4:15 pm]

BILLING CODE 8011-01-P